NATIONAL CREDIT UNION ADMINISTRATION

Sunshine Act; Notice of Change in Subject Matter of Meeting

The National Credit Union Administration Board determined that its business required a change in the subject matter of an item from the previously announced open meeting (Federal Register, Vol. 69, No. 50, page 12182, March 15, 2004) scheduled for Thursday, March 18, 2004.

1. Notice of Proposed Rulemaking: Part 717 of NCUA's Rules and Regulations implementing the Fair and Accurate Credit Transactions Act of 2003—Notice to Members regarding Release of Negative Information to Credit Reporting Agencies.

The Board voted unanimously that agency business required that this item be revised from a Notice of Proposed Rulemaking to a Board Briefing. Earlier announcement of this change was not possible.

The previously announced items were:

1. Notice of Proposed Rulemaking: Part 717 of NCUA's Rules and Regulations implementing the Fair and Accurate Credit Transactions Act of 2003—Notice to Members regarding Release of Negative Information to Credit Reporting Agencies.

2. Board Briefing: Part 717 of NCUA's Rules and Regulations regarding Medical Information.

For Further Information Contact: Becky Baker, Secretary of the Board, Telephone (703) 518-6304.

Becky Baker,
Secretary of the Board.

[FR Doc. 04-6449 Filed 3-18-04; 11:55 am]

BILLING CODE 7535-01-M